DEPARTMENT OF LABOR

Employment and Training Administration

[TA-W-60,568]

Fiberweb (Reemay, Inc.), Bethune, SC; Amended Certification Regarding Eligibility To Apply for Worker Adjustment Assistance and Alternative Trade Adjustment Assistance

In accordance with Section 223 of the Trade Act of 1974 (19 U.S.C. 2273), and Section 246 of the Trade Act of 1974, as amended (19 U.S.C. 2813), the Department of Labor issued a Certification of Eligibility to Apply for Worker Adjustment Assistance and Alternative Trade Adjustment Assistance on January 17, 2007, applicable to workers of Fiberweb, Inc., Bethune, South Carolina. The notice was published in the Federal Register on February 7, 2007 (72 FR 5748).

At the request of the State agency, the Department reviewed the certification for workers of the subject firm. The workers produce nonwoven textile fabric. The State reports that the subject firm's employee wages are reported under the Unemployment Insurance (UI) account for Reemay, Inc.

The Department has learned through follow-up with a company official that the firm's name is Fiberweb and Reemay, Inc. is the affiliated entity that processes the payroll.

It is the Department's intent of the certification to include all workers of the subject firm adversely affected by increased imports of nonwoven textiles. Accordingly, the Department is amending the certification to include workers of the subject firm whose wages are reported under the company name, Reemay, Inc.

The amended notice applicable to TA-W-60,568 is hereby issued as follows:

All workers of Fiberweb (Reemay, Inc.), Bethune, South Carolina, who became totally or partially separated from employment on or after December 8, 2005 through January 17, 2009, are eligible to apply for adjustment assistance under Section 223 of the Trade Act of 1974, and are also eligible to apply for alternative trade adjustment assistance under Section 246 of the Trade Act of 1974.

Signed in Washington, DC, this 1st day of March 2007.
Elliott S. Kushner,
Certifying Officer, Division of Trade Adjustment Assistance.

[FR Doc. E7-4578 Filed 3-13-07; 8:45 am]

BILLING CODE 4510-FN-P